DEPARTMENT OF LABOR

Employment and Training Administration

[TA-W-65,481]

IM Flash Technologies, LLC., a Joint Venture of Micron Technology Inc., and Intel Corportation, Lehi, UT; Notice of Termination of Investigation

In accordance with Section 221 of the Trade Act of 1974, as amended, an investigation was initiated on March 4, 2009 in response to a worker petition filed by three workers on behalf of workers of IM Flash Technologies, Lehi, Utah, a joint venture of Micron Technologies Inc., and Intel Corporation.

The petitioners have requested that the petition be withdrawn. Consequently, the investigation has been terminated.

Signed in Washington, DC, this 12th day of March 2009.
Richard Church,
Certifying Officer, Division of Trade Adjustment Assistance.

[FR Doc. E9-6314 Filed 3-23-09; 8:45 am]

BILLING CODE 4510-FN-P